GENERAL SERVICES ADMINISTRATION

Federal Management Regulation; Asset Management; Notice of GSA Bulletin FMR B-10

AGENCY: Office of Governmentwide Policy, General Services Administration (GSA).

ACTION: Notice of a bulletin.

SUMMARY: This notice announces GSA Federal Management Regulation (FMR) Bulletin B-10. This bulletin provides guidance to Federal agencies that sell personal property. GSA Bulletin FMR B-10 may be found at www.gsa.gov/fmrbulletin.

DATES: The bulletin announced in this notice is effective March 29, 2006.

FOR FURTHER INFORMATION CONTACT: For clarification of content, contact General Services Administration, Office of Governmentwide Policy, Office of Travel, Transportation and Asset Management, at (202) 501-1777. Please cite Bulletin FMR B-10.

SUPPLEMENTARY INFORMATION:

A. Background

A list of supply class categories is found in 40 U.S.C. 545(d) (1). Sales under this subsection are limited to categories of personal property for which the Administrator determines that disposal under this subsection best serves the interests of the Government. This notice announces GSA Bulletin FMR B-10 that updates that list of supply class categories.

B. Procedures

Bulletins regarding asset management are located on the Internet at www.gsa.gov/bulletins as Federal Management Regulation (FMR) bulletins.

Dated: April 3, 2006.
Becky Rhodes,
Deputy Associate Administrator.

[FR Doc. E6-5178 Filed 4-7-06; 8:45 am]

BILLING CODE 6820-14-S